FEDERAL COMMUNICATIONS COMMISSION

Information Collection Being Reviewed by the Federal Communications Commission for Extension Under Delegated Authority

AGENCY: Federal Communications Commission.

ACTION: Notice and Request for comments.

SUMMARY: As part of its continuing effort to reduce paperwork burdens and as required by the Paperwork Reduction Act of 1995, Public Law 104-13, the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees.

The FCC may not conduct or sponsor a collection of information unless it displays a currently valid control number. No person shall be subject to any penalty for failing to comply with a collection of information subject to the Paperwork Reduction Act (PRA) that does not display a valid control number.

DATES: Persons wishing to comment on this information collection should submit comments October 11, 2011. If you anticipate that you will be submitting comments, but find it difficult to do so within the period of time allowed by this notice, you should advise the contact listed below as soon as possible.

ADDRESSES: Submit your PRA comments to Nicolas A. Fraser, Office of Management and Budget (OMB), via fax at 202-395-5167, or via the Internet at Nicholas_A._Fraser@omb.eop.gov, and to Judith-B.Herman@fcc.gov, Federal Communications Commission (FCC). To submit your comments by e-mail send them to: PRA@fcc.gov.

FOR FURTHER INFORMATION CONTACT: For additional information about the information collection(s), contact Judith B. Herman at 202-418-0214.

SUPPLEMENTARY INFORMATION: OMB Control No.: 3060-0770.

Title: Sections 1.774, 61.49, 61.55, 61.58, 69.4, 69.707, 69.713 and 69.729, Price Cap Performance.

Form No.: N/A.

Type of Review: Extension of a currently approved collection.

Respondents: Business or other for-profit.

Number of Respondents: 21 respondents; 21 responses.

Estimated Time per Response: 10 hours.

Frequency of Response: On occasion reporting requirements.

Obligation to Respond: Required to obtain or retain benefits. Statutory authority for this collection of information is contained in 47 U.S.C. sections 151, 154(i), 154(j), 201-205, 303(r), and 403.

Total Annual Burden: 210 hours.

Annual Cost Burden: $17,115.

Privacy Act Impact Assessment: N/A.

Nature and Extent of Confidentiality: No information of a confidential nature is requested. However, respondents may request materials or information submitted to the Commission to be withheld from public inspection under 47 CFR 0.459 of the Commission's rules.

Needs and Uses: The Commission is seeking Office of Management and Budget (OMB) approval for an extension of this information collection (no change in the reporting requirements). The Commission will submit this information collection after this 60-day comment period. The Commission is reporting an adjustment increase in annual costs. The annual filing fee increase from $775 to $815 for a total estimate of $17,115 in annual costs.

The Commission permits price cap LECs to introduce new services on a streamlined basis, without prior approval. In August 1999, the Commission modified the rules to eliminate the public interest showing required by 47 CFR 69.4(g) and to eliminate the new services test requirement (except in the case of loop-based new services) required under 47 CFR 69.49(f) and (g). These modifications eliminate delays that existed for the introduction of new services as well as encourage efficient investment and innovation.

Section 61.49 also requires supporting information to be submitted with letters of transmittal for tariffs of carriers subject to price cap regulation. The other rule sections that were adopted in the Fifth Report and Order, FCC 99-206, that are subject to OMB review and approval are the following:

Section 1.774, Pricing Flexibility, describes what a petitioner for pricing flexibility must provide for specific services pursuant to part 69, Subpart H, with respect to a metropolitan statistical area (MSA), as defined in section 22.909(a), or the non-MSA parts of a study area, must show that the price cap LEC has met the relevant thresholds set forth in part 69, subpart H.

Section 61.55, Contract-based tariffs shall include the terms of contract, including any renewal options; a brief description of each of the services provided under the contract; minimum volume commitments for each service; the contract price for each service or services at the volume levels committed to by the customers; a general description of any volume discounts built into the contract rate structure; and a general description of other classifications, practices, and regulations affecting the contract rate.

Section 61.58, Notice requirements establish various time requirements for filing tariffs or amendments.

Section 69.707, for MSAs a price cap LEC filing a petition for pricing flexibility in a MSA shall include data sufficient to support its petition, as set forth in Subpart H, Pricing Flexibility, disaggregated by MSA. A price cap LEC may request pricing flexibility for two or more MSAs in a single petition, provided that it submits supporting data disaggregated by MSA.

Section 69.713(b)(1), Phase 1 Triggers, to obtain Phase 1 pricing flexibility, as specified in 47 CFR 69.727(a), for the services identified in paragraph (a) of this section, a price cap LEC must provide convincing evidence that, in the relevant areas as described in 47 CFR 69.707, its unaffiliated competitors, in aggregate, offer service to at least 15 percent of the price cap LEC's customer locations. For purposed of the showing required by paragraph (b)(1) of this section, the price cap LEC may not rely on service the competitors provide solely by reselling the price cap LEC's services, or provide through unbundled network elements as defined by 47 CFR 51.5, except the price cap LEC may rely on service the competitors provide through the use of the price cap LEC's unbundled loops.

Section 69.727 requires except for new services subject to paragraph (b) of this rule section, a price cap LEC may obtain pricing flexibility for a new service that has not been incorporated into a price cap basket by demonstrating in its pricing flexibility petition that the new service would be properly incorporated into one of the price cap baskets and service bands for which the price cap LEC seeks pricing flexibility.

The information collected will be submitted to the Commission by an incumbent LEC for use in determining whether the rates proposed by an incumbent LEC offering a new loop-based switched access service are reasonable.

Federal Communications Commission.
Marlene H. Dortch,
Secretary, Office of the Secretary, Office of Managing Director.

[FR Doc. 2011-20251 Filed 8-9-11; 8:45 am]

BILLING CODE 6712-01-P